DEPARTMENT OF HOMELAND SECURITY

Coast Guard

[USCG-2015-1005]

Merchant Mariner Medical Advisory Committee; Vacancies

AGENCY: Coast Guard, DHS.

ACTION: Request for applications.

SUMMARY: The Coast Guard seeks applications for membership on the Merchant Mariner Medical Advisory Committee. The Merchant Mariner Medical Advisory Committee provides advice and recommendations to the Secretary on matters related to medical certification determinations for issuance of licenses, certificates of registry, and merchant mariners' documents; medical standards and guidelines for the physical qualifications of operators of commercial vessels; medical examiner education; and medical research. Applicants selected for service on the Merchant Mariner Medical Advisory Committee via this solicitation will not begin their respective term until August 8, 2016.

DATES: Completed applications should reach the Coast Guard on or before January 25, 2016.

ADDRESSES: Applicants should send a cover letter expressing interest in an appointment to the Merchant Mariner Medical Advisory Committee that also identifies which membership category the applicant is applying under, along with a resume detailing the applicant's experience via one of the following methods:

• By Email: ashley.e.holm@uscg.mil.

• By Fax: 202-372-4908.

• By Mail: Lieutenant Ashley Holm, Alternate Designated Federal Officer of the Merchant Mariner Medical Advisory Committee, Commandant, Mariner Credentialing Program Policy Division (CG-CVC-4), U.S. Coast Guard, 2703 Martin Luther King Jr. Ave. SE., Stop 7501 Washington, DC 20593-7501.

FOR FURTHER INFORMATION CONTACT: Lieutenant Ashley Holm, Alternate Designated Federal Officer of the Merchant Mariner Medical Advisory Committee, Commandant, Mariner Credentialing Program Policy Division (CG-CVC-4), U.S. Coast Guard, 2703 Martin Luther King Jr. Ave. SE., Stop 7501 Washington, DC 20593-7501, ashley.e.holm@uscg.mil, phone: 202-372-1128, fax: 202-372-4908.

SUPPLEMENTARY INFORMATION: The Merchant Mariner Medical Advisory Committee was established under Section 210 of the Coast Guard Authorization Act of 2010, Public Law 111-281 and operates in accordance with the provisions of the Federal Advisory Committee Act, (5 U.S.C. Appendix). The Committee's purpose is to provide advice and recommendations to the Secretary on matters related to medical certification determinations for issuance of licenses, certificates of registry, and merchant mariners' documents; medical standards and guidelines for the physical qualifications of operators of commercial vessels; medical examiner education; and medical research.

The Merchant Mariner Medical Advisory Committee is expected to meet at least twice a year at various locations around the country. It may also meet intercessionally for extraordinary purposes. Working groups may also meet to consider specific tasks as required.

The Coast Guard will consider applications for seven positions that expire on August 8, 2016. These positions include two professional mariners with knowledge and experience in mariners' occupational requirements, and five health care professionals with particular expertise, knowledge, or experience regarding the medical examinations of merchant mariners or occupational medicine.

The members appointed will serve a term of office of five years. The members are limited to serving no more than two consecutive terms. All members serve without compensation from the Federal Government; however, members may be reimbursed for travel and per diem depending on fiscal budgetary constraints.

Members of the Merchant Mariner Medical Advisory Committee will be appointed and serve as Special Government Employees as defined in section 202(a) of Title 18 United States Code. As candidates for appointment as Special Government Employees, applicants are required to complete Confidential Financial Disclosure Reports (OGE Form 450). Coast Guard may not release the reports or the information in them to the public except under an order issued by a Federal court or as otherwise provided under the Privacy Act (5 U.S.C. 552a). Only the Designated Coast Guard Ethics Official or his designee may release a Confidential Financial Disclosure Report. Applicants can obtain this form by going to the Web site of the Office of Government Ethics (www.oge.gov), or by contacting the individual listed above in FOR FURTHER INFORMATION CONTACT. Applications for a Special Government Employees that are not accompanied by a completed OGE Form 450 will not be considered.

Registered lobbyists are not eligible to serve on Federal advisory committees in an individual capacity. Registered lobbyists are lobbyists required to comply with provisions contained in the Lobbying Disclosure Act of 1995 (2 U.S.C. 1605; Pub. L. 104-65; as amended by Title II of Pub. L. 110-81).

The Merchant Mariner Medical Advisory Committee members are appointed in their individual capacity and would be designated as a Special Government Employee as defined in 202(a) of Title 18, U.S.C. See “Revised Guidance on Appointment of Lobbyist to Federal Advisory Committees, Boards and Commissions” (79 FR 47482, August 13, 2014).

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Lieutenant Ashley Holm, Designated Alternate Federal Officer of the Merchant Mariner Medical Advisory Committee by email or mail according to instructions in the ADDRESSES section by the deadline in the DATES section of this notice.

All email submittals will receive email receipt confirmation.

To visit our online docket, go to http://www.regulations.gov enter the docket number (for this notice (USCG-2015-1005) in the Search box, and click “Search”. Please do not post your resume or OGE 450 Form on this site.

Dated: November 17, 2015.
V.B. Gifford, Jr.,
Captain, U.S. Coast Guard, Director, Inspections and Compliance.

[FR Doc. 2015-29836 Filed 11-23-15; 8:45 am]

BILLING CODE 9110-04-P